DEPARTMENT OF ENERGY

Federal Energy Regulatory Commission

Combined Notice of Filings #1

Take notice that the commission received the following accounting Request filings:

Docket Numbers: AC26-16-000.

Applicants: American Electric Power Service Corporation.

Description: American Electric Power Service Corporation submits Proposed Accounting Entries re Public Service Company of Oklahoma's acquisition of Green Country Energy, LLC.

Filed Date: 12/18/25.

Accession Number: 20251218-5128.

Comment Date: 5 p.m. ET 1/8/26.

Take notice that the Commission received the following electric corporate filings:

Docket Numbers: EC26-40-000.

Applicants: Adams Solar LLC, Caden Energix Axton LLC, Caden Energix Endless Caverns LLC, Caden Energix Hickory LLC, Northumberland Solar, LLC, Waverly Solar, LLC.

Description: Joint Application for Authorization Under Section 203 of the Federal Power Act of Adams Solar LLC, et al. under.

Filed Date: 12/17/25.

Accession Number: 20251217-5319.

Comment Date: 5 p.m. ET 1/7/26.

Docket Numbers: EC26-41-000.

Applicants: NextEra Energy Duane Arnold, LLC.

Description: Application for Authorization Under Section 203 of the Federal Power Act of NextEra Energy Duane Arnold, LLC.

Filed Date: 12/18/25.

Accession Number: 20251218-5223.

Comment Date: 5 p.m. ET 1/8/26.

Take notice that the Commission received the following exempt wholesale generator filings:

Docket Numbers: EG26-106-000.

Applicants: IP Aramis, LLC.

Description: IP Aramis, LLC submits Notice of Self-Certification of Exempt Wholesale Generator Status.

Filed Date: 12/17/25.

Accession Number: 20251217-5250.

Comment Date: 5 p.m. ET 1/7/26.

Docket Numbers: EG26-107-000.

Applicants: IP Easley, LLC.

Description: IP Easley, LLC submits Notice of Self-Certification of Exempt Wholesale Generator Status.

Filed Date: 12/17/25.

Accession Number: 20251217-5278.

Comment Date: 5 p.m. ET 1/7/26.

Docket Numbers: EG26-108-000.

Applicants: IP Easley II, LLC.

Description: IP Easley II, LLC submits Notice of Self-Certification of Exempt Wholesale Generator Status.

Filed Date: 12/17/25.

Accession Number: 20251217-5281.

Comment Date: 5 p.m. ET 1/7/26.

Take notice that the Commission received the following electric rate filings:

Docket Numbers: ER10-1789-011; ER10-1768-010; ER10-1771-010; ER16-2725-008.

Applicants: PSEG Energy Solutions LLC, PSEG Nuclear LLC, Public Service Electric and Gas Company, PSEG Energy Resources & Trade LLC.

Description: Triennial Market Power Analysis for Northeast Region of PSEG Energy Resources & Trade LLC, et al.

Filed Date: 12/17/25.

Accession Number: 20251217-5366.

Comment Date: 5 p.m. ET 2/16/26.

Docket Numbers: ER10-2727-014; ER10-2688-019; ER10-2728-018; ER10-1469-017; ER10-1467-017; ER11-3907-010; ER10-1451-016; ER10-2687-016; ER24-172-008.

Applicants: FirstEnergy Pennsylvania Electric Company, Monongahela Power Company, Jersey Central Power & Light, The Toledo Edison Company, Ohio Edison Company, The Cleveland Electric Illuminating Company, Green Valley Hydro, LLC, The Potomac Edison Company, Allegheny Energy Supply Company, LLC.

Description: Updated Triennial Market Power Analysis for Northeast Region of Allegheny Energy Supply Company, LLC, et al.

Filed Date: 12/16/25.

Accession Number: 20251216-5339.

Docket Numbers: ER19-1217-007.

Applicants: Montana-Dakota Utilities Co.

Description: Updated Triennial Market Power Analysis for Northwest Region of Montana-Dakota Utilities Co. under ER19-1217.

Filed Date: 12/17/25.

Accession Number: 20251217-5365.

Comment Date: 5 p.m. ET 2/16/26.

Docket Numbers: ER23-1928-003; ER19-2259-004; ER20-2722-002; ER22-874-003; ER22-2689-003; ER22-2850-003; ER24-1660-001; ER24-1661-001; ER24-1662-001; ER24-1665-002.

Applicants: Oak Leaf Solar 56 LLC, Oak Leaf Solar XXVI LLC, Oak Leaf Solar XXII LLC, Oak Leaf Solar XVIII LLC, Fall River Solar, LLC, MTSun LLC, Graphite Solar 1, LLC, CO Buffalo Flats, LLC, Turquoise Nevada LLC, Appaloosa Solar I, LLC.

Description: Triennial Updated Market Power Analysis for Northwest Region of Appaloosa Solar I, LLC, et al.

Filed Date: 12/16/25.

Accession Number: 20251216-5338.

Comment Date: 5 p.m. ET 2/16/26.

Docket Numbers: ER25-3431-001.

Applicants: Mammoth Central LLC.

Description: Tariff Amendment: Deficiency Filing to 2 to be effective 2/17/2026.

Filed Date: 12/18/25.

Accession Number: 20251218-5141.

Comment Date: 5 p.m. ET 1/8/26.

Docket Numbers: ER25-3432-001.

Applicants: Mammoth Central II LLC.

Description: Tariff Amendment: Deficiency Filing to 2 to be effective 2/17/2026.

Filed Date: 12/18/25.

Accession Number: 20251218-5143.

Comment Date: 5 p.m. ET 1/8/26.

Docket Numbers: ER25-3434-001.

Applicants: Mammoth South LLC.

Description: Tariff Amendment: Deficiency Filing to 1 to be effective 2/17/2026.

Filed Date: 12/18/25.

Accession Number: 20251218-5152.

Comment Date: 5 p.m. ET 1/8/26.

Docket Numbers: ER26-806-000.

Applicants: Upper Missouri G. & T. Electric Cooperative, Inc.

Description: 205(d) Rate Filing: Revised Wholesale Power Contracts to be effective 10/22/2025.

Filed Date: 12/17/25.

Accession Number: 20251217-5283.

Comment Date: 5 p.m. ET 1/7/26.

Docket Numbers: ER26-807-000.

Applicants: Southwest Power Pool, Inc.

Description: 205(d) Rate Filing: 4543 Rabbit's Foot Solar GIA to be effective 11/18/2025.

Filed Date: 12/18/25.

Accession Number: 20251218-5059.

Comment Date: 5 p.m. ET 1/8/26.

Docket Numbers: ER26-808-000.

Applicants: PacifiCorp.

Description: 205(d) Rate Filing: TransWest Engineering Services Agreement (RS No. 804) to be effective 2/17/2026.

Filed Date: 12/18/25.

Accession Number: 20251218-5104.

Comment Date: 5 p.m. ET 1/8/26.

Docket Numbers: ER26-809-000.

Applicants: Southwest Power Pool, Inc.

Description: 205(d) Rate Filing: 4545 Welcome Way Solar Energy GIA to be effective 11/20/2025.

Filed Date: 12/18/25.

Accession Number: 20251218-5106.

Comment Date: 5 p.m. ET 1/8/26.

Docket Numbers: ER26-810-000.

Applicants: AEP Texas Inc.

Description: 205(d) Rate Filing: AEPTX-Rolling Plains Solar LLC Interconnection Agreement to be effective 12/8/2025.

Filed Date: 12/18/25.

Accession Number: 20251218-5125.

Comment Date: 5 p.m. ET 1/8/26.

Docket Numbers: ER26-811-000.

Applicants: Midcontinent Independent System Operator, Inc.

Description: 205(d) Rate Filing: 2025-12-18_SA 4627 ITC Midwest-Interstate Power & Light GIA (E0010) to be effective 12/12/2025.

Filed Date: 12/18/25.

Accession Number: 20251218-5176.

Comment Date: 5 p.m. ET 1/8/26.

Take notice that the Commission received the following electric securities filings:

Docket Numbers: ES26-16-000.

Applicants: Portland General Electric Company.

Description: Amendment to Application Under Section 204 of the Federal Power Act for Authorization to Issue Securities of Portland General Electric Company.

Filed Date: 12/16/25.

Accession Number: 20251216-5337.

Comment Date: 5 p.m. ET 12/26/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: December 18, 2025.
Carlos D. Clay,
Deputy Secretary.

[FR Doc. 2025-23701 Filed 12-22-25; 8:45 am]

BILLING CODE 6717-01-P